NATIONAL SCIENCE FOUNDATION

Sunshine Act Meeting; National Science Board

The National Science Board's Committee on External Engagement (EE), pursuant to NSF regulations (45 CFR part 614), the National Science Foundation Act, as amended (42 U.S.C. 1862n-5), and the Government in the Sunshine Act (5 U.S.C. 552b), hereby gives notice of the scheduling of a teleconference for the transaction of National Science Board business, as follows:

TIME AND DATE: Wednesday, October 25, 2017 at 2:30-3:30 p.m. EDT.

PLACE: This meeting will be held by teleconference at the National Science Foundation, 2415 Eisenhower Avenue, Alexandria, VA 22314. An audio link will be available for the public. Members of the public must contact the Board Office to request the public audio link by sending an email to nationalsciencebrd@nsf.gov at least 24 hours prior to the teleconference.

STATUS: Open.

MATTERS TO BE CONSIDERED: Discussion to identify committee members to lead various initiatives; preferred methods for sharing information about recent or upcoming events; and review and discussion of draft charge for the Committee on External Engagement.

CONTACT PERSON FOR MORE INFORMATION: Point of contact for this meeting is: Nadine Lymn (nlymn@nsf.gov), 2415 Eisenhower Avenue, Alexandria, VA 22314.

Meeting information and updates may be found at http://www.nsf.gov/nsb/notices/.jsp#sunshine.

Please refer to the National Science Board Web site at www.nsf.gov/nsb for general information.

Chris Blair,
Executive Assistant to the National Science Board Office.

[FR Doc. 2017-22849 Filed 10-17-17; 4:15 pm]

BILLING CODE 7555-01-P